INTERNATIONAL TRADE COMMISSION

[Investigation No. 337-TA-751]

In the Matter of Certain Turbomachinery Blades, Engines, and Components Thereof; Notice of Commission Decision Not To Review an Initial Determination Terminating the Investigation

AGENCY: U.S. International Trade Commission.

ACTION: Notice.

SUMMARY: Notice is hereby given that the U.S. International Trade Commission has determined not to review the presiding administrative law judge's initial determination (“ID”) (Order No. 8) granting a joint motion to terminate the investigation.

FOR FURTHER INFORMATION CONTACT: Sidney A. Rosenzweig, Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 14, 2010, based on a complaint filed by United Technologies Corporation of Hartford, Connecticut, that named as respondents Rolls-Royce Group plc and Rolls-Royce plc, both of the United Kingdom. 75 FR 77904 (Dec. 14, 2010). The complaint alleged a violation of section 337 in the importation, sale for importation, and sale within the United States after importation of certain turbomachinery blades, engines, and components thereof by reason of the infringement of certain claims of U.S. Patent No. RE38,040.

On July 15, 2011, the private parties moved to terminate the investigation based on a settlement. On July 22, 2011, the Commission investigative attorney filed a response in support of the motion. On July 25, 2011, the ALJ granted the motion as an ID (Order No. 8).

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: August 11, 2011.
William R. Bishop,
Acting Secretary to the Commission.

[FR Doc. 2011-20869 Filed 8-16-11; 8:45 am]

BILLING CODE 7020-02-P